Title 3—

The President

Memorandum of December 7, 2001

Certification Related to Northern Ireland Under Section 405 of the Admiral James W. Nance and Meg Donovan Foreign Relations Authorization Act, Fiscal Years 2000 and 2001

Memorandum for the Secretary of State

Pursuant to section 405 of the Admiral James W. Nance and Meg Donovan Foreign Relations Authorization Act, Fiscal Years 2000 and 2001, as enacted in Public Law 106-113, I hereby certify that: (i) training or exchange programs conducted by the Federal Bureau of Investigation or other Federal law enforcement agencies for the Police Service of Northern Ireland (PSNI) or PSNI members are necessary to improve the professionalism of policing in Northern Ireland and advance the peace process in Northern Ireland; (ii) such programs will include in the curriculum a significant human rights component; (iii) vetting procedures have been established in the Departments of State and Justice, and any other appropriate Federal agency, to ensure that training or exchange programs do not include PSNI members who there are substantial grounds for believing have committed or condoned violations of internationally recognized human rights, including any role in the murder of Patrick Finucane or Rosemary Nelson or other violence or serious threat of violence against defense attorneys in Northern Ireland; and (iv) the Governments of the United Kingdom and Republic of Ireland are committed to assisting in the full implementation of the recommendations contained in the Patten Commission report issued September 9, 1999.

You are authorized and directed to transmit this certification to the appropriate congressional committees and to publish it in the Federal Register.

B

THE WHITE HOUSE,

Washington, December 7, 2001.

[FR Doc. 01-31023

Filed 12-13-01; 8:45 am]

Billing code 4710-10-M